COMMISSION ON CIVIL RIGHTS

Notice of Public Meeting of the South Carolina Advisory Committee to the U.S. Commission on Civil Rights

AGENCY: U.S. Commission on Civil Rights.

ACTION: Announcement of business meeting.

SUMMARY: Notice is hereby given, pursuant to the provisions of the rules and regulations of the U.S. Commission on Civil Rights (Commission) and the Federal Advisory Committee Act, that the South Carolina Advisory Committee (Committee) to the U.S. Commission on Civil Rights will hold a business meeting on Friday, November 4, 2022, at 12:00 p.m. (ET). The purpose of the meeting is to discuss the final stage of the Committee's project on Civil Asset Forfeiture in South Carolina.

DATES: The meeting will take place on Friday, November 4, 2022, at 12:00 p.m. (ET).

ADDRESSES:

Meeting Link (Audio/Visual): https://tinyurl.com/2s4bpzcx.

Telephone (Audio Only): Dial 1-833-568-8864 USA Toll Free; Meeting ID: 161 985 8025.

FOR FURTHER INFORMATION CONTACT: Barbara Delaviez, DFO, at ero@usccr.gov or 1-202-529-8246.

SUPPLEMENTARY INFORMATION: Committee meetings are available to the public through the conference link above. Any interested member of the public may listen to the meeting. An open comment period will be provided to allow members of the public to make a statement as time allows. If joining via phone, callers can expect to incur regular charges for calls they initiate over wireless lines, according to their wireless plan. The Commission will not refund any incurred charges. Individuals who are deaf, deafblind, and hard of hearing may also follow the proceedings by first calling the Federal Relay Service at 1-800-877-8339 and providing the Service with the conference details found through registering at the web link above. To request additional accommodations, please email ero@usccr.gov at least ten (10) days prior to the meeting.

Members of the public are also entitled to submit written comments; the comments must be received in the regional office within 30 days following the meeting. Written comments may be emailed to Evelyn Bohor at ero@usccr.gov. Persons who desire additional information may contact the Regional Programs Unit at 1-202-376-7533.

Records generated from this meeting may be inspected and reproduced at the Regional Programs Coordination Unit Office, as they become available, both before and after the meeting. Records of the meeting will be available via www.facadatabase.gov under the Commission on Civil Rights, South Carolina Advisory Committee link. Persons interested in the work of this Committee are directed to the Commission's website, http://www.usccr.gov, or may contact the Regional Programs Coordination Unit at the above email or street address.

Agenda

I. Welcome and Roll Call

II. Discussion: Gate Five—Post-Report Stage

III. Other Business

IV. Public Comment

V. Next Steps

VI. Adjournment

Dated: October 20, 2022.
David Mussatt,
Supervisory Chief, Regional Programs Unit.

[FR Doc. 2022-23259 Filed 10-25-22; 8:45 am]

BILLING CODE P